DEPARTMENT OF COMMERCE

International Trade Administration

[A-570-929]

Small Diameter Graphite Electrodes From the People's Republic of China: Final Results of the Expedited Sunset Review of the Antidumping Duty Order

AGENCY: Enforcement and Compliance, International Trade Administration, Department of Commerce.

SUMMARY: On January 2, 2014, the Department of Commerce (the Department) published the initiation of the first sunset review of the antidumping duty order on small diameter graphite electrodes from the People's Republic of China (PRC) pursuant to section 751(c) of the Tariff Act of 1930, as amended (the Act). The Department finds that revocation of this antidumping duty order would be likely to lead to continuation or recurrence of dumping as indicated in the “Final Results of Sunset Review” section of this notice.

DATES: Effective Date: May 7, 2014.

FOR FURTHER INFORMATION CONTACT: Michael A. Romani or Minoo Hatten, AD/CVD Operations, Office I, Enforcement and Compliance, International Trade Administration, U.S. Department of Commerce, 14th Street and Constitution Avenue NW., Washington, DC 20230; telephone: (202) 482-0198 or (202) 482-1690, respectively.

SUPPLEMENTARY INFORMATION:

Background

On February 26, 2009, the Department published the antidumping duty order on small diameter graphite electrodes from the PRC.¹ On January 2, 2014, the Department published the notice of initiation of the sunset review of the Antidumping Duty Order.² The Department received a notice of intent to participate in this sunset review from GrafTech USA LLC, SGL Carbon LLC, and Superior Graphite Company (collectively, domestic interested parties), within the 15-day period specified in 19 CFR 351.218(d)(1)(i). The domestic interested parties claimed interested party status under section 771(9)(C) of the Act as producers of the domestic like product.

¹ See Antidumping Duty Order: Small Diameter Graphite Electrodes from the People's Republic of China, 74 FR 8775 (February 26, 2009) (Antidumping Duty Order).

² See Initiation of Five-Year (“Sunset”) Reviews, 79 FR 110 (January 2, 2014) (Initiation).

The Department received an adequate substantive response to the Initiation from the domestic interested parties within the 30-day period specified in 19 CFR 351.218(d)(3)(i). The Department received no substantive response from respondent interested parties. In accordance with section 751(c)(3)(B) of the Act and 19 CFR 351.218(e)(1)(ii)(C)(2), the Department conducted an expedited (120-day) sunset review of the Antidumping Duty Order.

Scope of the Order

The merchandise covered by the order includes all small diameter graphite electrodes with a nominal or actual diameter of 400 millimeters (16 inches) or less and graphite pin joining systems for small diameter graphite electrodes. Small diameter graphite electrodes and graphite pin joining systems for small diameter graphite electrodes that are subject to the order are currently classified under the Harmonized Tariff Schedule of the United States (HTSUS) subheadings 8545.11.0010, 3801.10, and 8545.11.0020. While the HTSUS subheadings are provided for convenience and customs purposes, the written description of the scope of the Antidumping Duty Order is dispositive. A full description of the scope of the Antidumping Duty Order is contained in the Issues and Decision Memorandum.³

³ See memorandum from Christian Marsh, Deputy Assistant Secretary for Antidumping and Countervailing Duty Operations, to Paul Piquado, Assistant Secretary for Enforcement and Compliance, “Issues and Decision Memorandum for the Final Results of Expedited First Sunset Review of the Antidumping Duty Order on Small Diameter Graphite Electrodes from the People's Republic of China” dated concurrently with this notice (Issues and Decision Memorandum), which is hereby adopted by this notice.

Analysis of Comments Received

All issues raised in this review are addressed in the Issues and Decision Memorandum, including the likelihood of continuation or recurrence of dumping in the event of revocation and the magnitude of the margin of dumping likely to prevail if the order is revoked. Parties can find a complete discussion of all issues raised in this review and the corresponding recommendations in this public memorandum, which is on file electronically via Enforcement and Compliance's Antidumping and Countervailing Duty Centralized Electronic Service System (IA ACCESS). IA ACCESS is available to registered users at http://iaaccess.trade.gov, and it is available to all parties in the Central Records Unit in Room 7046 of the main Department of Commerce building. In addition, a complete version of the Issues and Decision Memorandum can be accessed directly on the Internet at http://enforcement.trade.gov/frn/index.html. The signed Issues and Decision Memorandum and the electronic versions of the Issues and Decision Memorandum are identical in content.

Final Results of Review

The Department determines that revocation of the antidumping duty order on small diameter graphite electrodes from the PRC would be likely to lead to continuation or recurrence of dumping, and the magnitude of the margin of dumping likely to prevail is at the following rates:

Exporters | Exporters rate (percent)
Fangda Group.⁴ | $159.64
Non-examined exporters with a separate rate | 132.90
PRC-Wide Entity | 159.64

Notification to Interested Parties

This notice serves as a reminder to parties subject to administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

⁴ See Final Determination of Sales at Less Than Fair Value and Affirmative Determination of Critical Circumstances: Small Diameter Graphite Electrodes from the People's Republic of China, 74 FR 2049 (January 14, 2009) at 2050, and footnote 2 (The following companies comprise the Fangda Group: Fushun Carbon Co., Ltd., Fangda Carbon New Material Co., Ltd., Chengdu Rongguang Carbon Co., Ltd., Beijing Fangda Carbon Tech Co., Ltd., and Hefei Carbon Co., Ltd. (Fangda Group)), unchanged in Antidumping Duty Order.

The Department is issuing and publishing the final results and notice in accordance with sections 751(c), 752(c), and 777(i)(1) of the Act and 19 CFR 351.221(c)(5)(ii).

Dated: May 1, 2014.
Paul Piquado,
Assistant Secretary for Enforcement and Compliance.

[FR Doc. 2014-10513 Filed 5-6-14; 8:45 am]

BILLING CODE 3510-DS-P